DEPARTMENT OF LABOR

Employment and Training Administration

Final Finding of No Significant Impact, Roswell Job Corps Center Proposed Disposal and Reuse of Excess Property, Located at 57 G Street, Roswell, New Mexico

SUMMARY: The Department of Labor's (DOL) Employment and Training Administration Pursuant to the Council on Environmental Quality Regulations implementing procedural provisions of the National Environmental Policy Act (NEPA), gives final notice of the proposed disposal and reuse of a 13.6-acre area of excess property at the Roswell Job Corps Center, and that this project will not have a significant adverse impact on the environment.

DATES: These findings are applicable as of April 8, 2020.

ADDRESSES: For further information contact Delilah LumHo, Department of Labor, 200 Constitution Avenue NW, Room N-4460, Washington, DC 20210; Telephone (202) 693-8010 (this is not a toll free number).

SUPPLEMENTARY INFORMATION: A public notice of availability of the draft environmental assessment (EA) was published in the Roswell Daily Record in Roswell, New Mexico, on December 3, 2019. The review period extended for 15 days, ending on December 18, 2019. No public comments were received. No changes to the findings of the EA has been made.

Implementation of the proposed action alternative will not have significant impacts on the human environment. The determination is sustained by the analysis in the EA, agency, and Native American tribal consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

John Pallasch,
Assistant Secretary for Employment and Training.

[FR Doc. 2020-07113 Filed 4-7-20; 8:45 am]

BILLING CODE 4510-FN-P